DEPARTMENT OF ENERGY

Federal Energy Regulatory Commission

[Docket No. CP06-386-000]

Dominion Transmission, Inc.; Notice of Request Under Blanket Authorization

June 20, 2006.

Take notice that on June 13, 2006, Dominion Transmission, Inc. (DTI), 120 Tredegar Street, Riverside Building, Richmond, Virginia 23219, filed in Docket No. CP06-386-000 a request pursuant to sections 157.205(b) and 157.208(f)(2) of the Commission's Regulations under the Natural Gas Act (18 CFR 157.205 and 157.208) for authorization to increase the maximum allowable operating pressure (MAOP) of LN 257-S at the Sharon Storage Complex located in Potter County, Pennsylvania, under the authorization issued in Docket No. CP82-537-000 pursuant to section 7 of the Natural Gas Act, all as more fully described in the request.

This filing is available for review at the Commission in the Public Reference Room or may be viewed on the Commission's Web site at http://www.ferc.gov using the “eLibrary” link. Enter the docket number excluding the last three digits in the docket number field to access the document. For assistance, please contact FERC Online Support at FERCOnlineSupport@ferc.gov or toll-free at (866) 208-3676, or for TTY, contact (202) 502-8659.

Any questions concerning this request may be directed to Matthew R. Bley, Manager, Gas Transmission Certificates, Dominion Transmission, Inc., 120 Tredegar Street, Richmond, Virginia 23219, at (804) 819-2877 or Fax (804) 819-2064 or Matthew_R_Bley@dom.com.

DTI states that because no compression facilities are available at the Sharon Storage Complex (Sharon), Sharon's pool pressure and inventory levels rely on pipeline pressures available from DTI's State Line and Quinlan Compressor Stations (Quinlan). DTI asserts that since TL527, which connects Quinlan and Sharon has an MAOP of 1,250 psig, it is necessary to uprate the MAOP of LN 257-S from 1,100 psig to 1,250 psig in order to achieve an equilibrium in pressure between Quinlan and Sharon. DTI maintains that the proposed MAOP increase is needed in order to provide greater operating flexibility and to allow for the continued and effective operation of Sharon. DTI contends that LN 257-S was tested to 2,200 psig when it was replaced in 1994.

Any person or the Commission's Staff may, within 45 days after the issuance of the instant notice by the Commission, file pursuant to Rule 214 of the Commission's Procedural Rules (18 CFR 385.214) a motion to intervene or notice of intervention and, pursuant to section 157.205 of the Commission's Regulations under the Natural Gas Act (NGA) (18 CFR 157.205) a protest to the request. If no protest is filed within the time allowed therefore, the proposed activity shall be deemed to be authorized effective the day after the time allowed for protest. If a protest is filed and not withdrawn within 30 days after the time allowed for filing a protest, the instant request shall be treated as an application for authorization pursuant to section 7 of the NGA.

Comments, protests and interventions may be filed electronically via the Internet in lieu of paper. See 18 CFR 385.2001(a)(1)(iii) and the instructions on the Commission's Web site under the “e-filing” link. The Commission strongly encourages electronic filings.

Magalie R. Salas,
Secretary.

[FR Doc. E6-10155 Filed 6-27-06; 8:45 am]

BILLING CODE 6717-01-P